DEPARTMENT OF COMMERCE

Bureau of Industry and Security

15 CFR Part 705

[Docket No. 250428-0073]

RIN 0694-AK13

Adoption and Procedures of the Section 232 Steel and Aluminum Tariff Inclusions Process

AGENCY: Bureau of Industry and Security, U.S. Department of Commerce.

ACTION: Interim final rule.

SUMMARY: On February 10, 2025, the President issued Proclamations 10895, “Adjusting Imports of Aluminum into The United States” (Aluminum Proclamation), and 10896, “Adjusting Imports of Steel into the United States” (Steel Proclamation), imposing specified rates of duty on imports of aluminum and steel articles and certain derivative steel and aluminum articles, respectively (collectively, the Inclusions Proclamations). The Inclusions Proclamations also required the Secretary of Commerce to establish a process for including additional derivative aluminum and steel articles within the scope of the ad valorem duties. The Bureau of Industry and Security (BIS), in this interim final rule (IFR), establishes the process for including additional derivative aluminum and steel articles within the scope of the ad valorem duties authorized by the President under Section 232 of the Trade Expansion Act of 1962, as amended (Section 232). This IFR also removes the aluminum and steel exclusions process authorized by clause 3 of the March 18, 2018, Presidential Proclamations 9704 and 9705 (collectively, the Exclusions Proclamations).

DATES: This rule is effective April 30, 2025. Comments on this interim final rule must be received by BIS no later than June 16, 2025.

ADDRESSES: Public comments are to be made via https://www.regulations.gov/docket/BIS-2025-0023. The regulations.gov ID for this rule is: BIS-2025-0023. Please refer to RIN 0694-AK13 in all comments. All filers submitting comments in regulations.gov should use the name of the person or entity submitting the comments as the name of their files, in accordance with the instructions below. Anyone submitting business confidential information should clearly identify the business confidential portion at the time of submission, file a statement justifying nondisclosure and referring to the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available at: https://www.regulations.gov. Commenters submitting business confidential information are encouraged to scan a hard copy of the non-confidential version to create an image of the file, rather than submitting a digital copy with redactions applied, to avoid inadvertent redaction errors which could enable the public to read business confidential information.

FOR FURTHER INFORMATION CONTACT: For questions regarding this interim final rule, contact Stephen Astle at 202-482-2533, or email Steel232@bis.doc.gov regarding provisions in this rule specific to steel inclusion requests and Aluminum232@bis.doc.gov regarding provisions in this rule specific to aluminum inclusion requests.

SUPPLEMENTARY INFORMATION:

I. Background

A. Section 232 and Adjustments of Imports of Aluminum and Steel

On February 10, 2025, the President issued Proclamation 10895 “Adjusting Imports of Aluminum into the United States”, and Proclamation 10896 “Adjusting Imports of Steel into the United States” which imposed a 25 percent ad valorem tariff on imports of aluminum and steel articles and certain derivative steel and aluminum articles, respectively. These Inclusions Proclamations terminated the aluminum and steel exclusions process as authorized in the clause 3 of Proclamation 9705, clause 1 of Proclamation 9777, and clause 2 of Proclamation 9980, as well as a number of country exemptions and alternative arrangements to the steel and aluminum duties implemented in subsequent Presidential Proclamations. The Inclusions Proclamations also required the Secretary of Commerce (the Secretary) to establish within 90 days a process for including additional derivative aluminum and steel articles within the scope of the ad valorem duties proclaimed in Exclusion Proclamations, Presidential Proclamation 9704, Proclamation 9705, Proclamation 9980, clause 4 of the Proclamation 10896, and clause 5 of Proclamation 10895, respectively.

Section 232 of the Trade Expansion Act of 1962, as amended (19 U.S.C. 1862), provides authority for the Department of Commerce (Commerce) to conduct investigations to determine the effects of imports of an article on the national security of the United States and authorizes the President to adjust the imports of the article and its derivatives based on such an investigation and affirmative determination by the Department of Commerce that the article is being importing into the United States in such quantities or under such circumstances as to threaten to impair the national security of the United States. The Department of Commerce previously concluded Section 232 investigations into imports of steel and aluminum articles in 2018 that led to the implementation of the Section 232 Steel and Aluminum Duties in the Exclusions Proclamations. These duties were extended to apply to imports of certain derivative steel and aluminum articles in Presidential Proclamation 9980 of January 29, 2020, as well as Presidential Proclamations 10895 and 10896 of February 10, 2025.

Presidential Proclamations 10895 and 10896 set several requirements for the Department of Commerce to include certain derivative articles of steel and aluminum under the Section 232 Steel and Aluminum Duties established by the Exclusions Proclamations. It authorizes the Secretary to include additional derivative steel or aluminum articles within the scope of the tariffs unilaterally, or at the request of a producer of steel or aluminum articles or derivative articles within the United States, or an industry association representing one or more such producers. Applications for the inclusion of derivative articles must establish that imports of a derivative article have increased in a manner that threatens to impair the national security of the United States or otherwise undermine the objectives set forth in the 2018 Section 232 investigations or any Proclamations issued pursuant thereto. The Inclusions Proclamations direct that the Secretary of Commerce shall issue a determination on any such request within 60 days of its receipt by the Department.

B. Purpose of This IFR

BIS is publishing this IFR to establish the Section 232 inclusions process, as required by the Inclusions Proclamations. The Inclusions Proclamations direct that this process shall be established within 90 days, meaning no later than May 10, 2025.

This interim final rule serves two functions. First, this IFR establishes the Section 232 inclusions process. Second, this IFR makes conforming edits to remove the Section 232 aluminum and steel exclusions process regulatory provisions because that process is no longer in effect as of February 10, 2025, so those regulatory provisions are no longer needed.

C. Submitting Public Comments on This Interim Final Rule

The comment submission process on this IFR is separate and distinct from the comment submission process for the inclusion requests. For submitting comments on this IFR in regulations.gov, follow the instructions as specified in the ADDRESSES section of this IFR. For submitting comments on inclusion requests, please follow the instructions as provided in the regulatory text.

II. Amendments To Establish the Section 232 Inclusions Process

A. Submission Phase

BIS will establish a submissions window to receive aluminum and steel derivative inclusion requests from industry during two-week submission windows opening three times annually at the beginning of each May, September, and January, with the first such window to open on May 1, 2025. Submissions of inclusions requests must be submitted in PDF format via the Defense Industrial Base Programs inbox at DIBPrograms@bis.doc.gov. For the request to be considered valid, the requestor must provide the following in their request:

• Clear identification of the applicant (i.e., individual, company, or trade association);

• A precise definition of the derivative article;

• The eight or ten-digit HTSUS classification requested to be included in the scope of the ad valorem tariffs;

• An explanation of why the article is a steel or aluminum derivative article, including, to the extent practicable, information on the total value of the article's steel and/or aluminum content as a share of the derivative article's total value;

• Pertinent information on the domestic industry affected;

• Statistics on imports and domestic production;

• A description of how and to what extent imports of the derivative article threaten to impair the national security or otherwise undermine the objectives set forth in the 2018 Steel and Aluminum Section 232 investigation reports or related Inclusions Proclamations;

• Any business confidential submissions must also include a non-confidential public version; and

• All information submitted must be limited to 30 pages inclusive of all attachments.

BIS will review the received requests on a rolling basis during the two-week submission window to validate that the received requests contain all the required elements and do not exceed the page limitation. In the instance where the requestor did not include all the required elements or improperly filed the submission, at the discretion of the Under Secretary for Industry and Security, the requestor will be granted a 48-hour window to ensure a proper filing. The use of fixed submission windows will provide predictability to industry and will be the most efficient use of BIS resources given the short timeframes to secure and process public comments and provide recommendations.

B. Review and Public Comment Phase

BIS will publicly post non-confidential versions of all valid requests for a 14-day public comment window on regulations.gov after the conclusion of the two-week submission window. Collecting public comments will ensure a transparent, complete, and legally robust process for conducting analysis and making final determinations of derivative inclusion requests. This action will also represent confirmation of receipt and acceptance by the Department of Commerce, initiating the 60-day timeline for processing derivative inclusion requests as directed in the Inclusions Proclamations. BIS will begin analysis of each accepted inclusion request concurrent with the start of the public comment window. Each inclusion request will be assessed for: (1) whether the described product at the eight- or ten-digit HTSUS classification is a derivative steel or aluminum article; and (2) whether such derivative article imports have increased in a manner that threatens to impair the national security or otherwise undermine the objectives set forth in the Section 232 investigation reports or related Inclusions Proclamations.

C. Where and How To Submit Public Comments

Public comments on inclusion requests are to be submitted through the regulations.gov, ID BIS-2025-0023, at: https://www.regulations.gov/docket/BIS-2025-0023, through the Federal eRulemaking website at: https://www.regulations.gov, within the 14-day public comment window. No other submission methods are being used for submitting public comments for the inclusions process. This comment submission process for inclusion requests is separate and distinct from the process for submitting public comments on this IFR. To submit comments on this IFR, follow the instructions as specified in the ADDRESSES section of this IFR.

D. Decision Phase

With respect to each request, the Secretary or designee will sign a positive or negative determination. After the determination and signature, BIS will generate and publicly post a determination memorandum in regulations.gov for each inclusions request within 60 days of receiving the requests that: (1) states whether the request was approved or denied; and (2) summarizes the rationale for making this determination. The date of signature on the determination memorandum must be prior to the close of the respective 60-day derivative inclusion processing period, as directed in the Inclusions Proclamations. A Federal Register notice will then be issued that modifies the Annexes to the Inclusions Proclamations with the included derivative products at the eight- to ten-digit HTSUS subheading. Duties on newly included derivative articles will take effect shortly thereafter through coordination with U.S. Customs and Border Protection.

III. Removal of the Section 232 Exclusions Process and Related Provisions

Since March 19, 2018, BIS has published five interim final rules (IFRs) that established and made various revisions to the Section 232 exclusions process, as well as several Notices of Inquiry seeking public comment on certain aspects of the Section 232 exclusions process.

On March 19, 2018, BIS issued an IFR, “Requirements for Submissions Requesting Exclusions from the Remedies Instituted in Presidential Proclamations Adjusting Imports of Steel into the United States and Adjusting Imports of Aluminum into the United States; and the Filing of Objections to Submitted Exclusion Requests for Steel and Aluminum” (83 FR 12106), establishing the Section 232 exclusions process in supplements no. 1 and 2 to 15 CFR part 705.

On September 11, 2018, BIS issued a second IFR, “Submissions of Exclusion Requests and Objections to Submitted Requests for Steel and Aluminum” (83 FR 46026), which revised the exclusions process to increase transparency, fairness, and efficiency.

On June 10, 2019, BIS issued a third IFR, “Implementation of New Commerce Section 232 Exclusions Portal” (84 FR 26751), that revised the two supplements to part 705 to grant the public the ability to submit new exclusion requests through the Section 232 Exclusions Portal while still allowing the opportunity for public comment on the portal.

On May 26, 2020, BIS issued a notice of inquiry with request for comment, “Notice of Inquiry Regarding the Exclusions Process for Section 232 Steel and Aluminum Import Tariffs and Quotas” (85 FR 31441), that sought public comment on the appropriateness of the information requested and considered in applying the exclusion criteria and the efficiency and transparency of the process employed.

On December 14, 2020, BIS issued a fourth IFR, “Section 232 Steel and Aluminum Tariff Exclusions Process” (85 FR 81060), which established General Approved Exclusions (GAEs) to reduce the number of exclusion requests for products consistently found not to be produced in the United States, reducing the submission burden on both industry and the Section 232 exclusions process. This IFR identified 123 GAEs that had generally never received an objection or very few objections via the Section 232 exclusions process. GAEs are available to all would-be requestors for steel and aluminum products imported under 10-digit HTSUS classifications without quantity limit or expiration date.

On December 9, 2021, BIS subsequently suspended 30 GAEs in its fifth IFR, “Removal of Certain General Approved Exclusions Under the Section 232 Steel and Aluminum Tariff Exclusion Process” (86 FR 70003), on the Section 232 exclusions process because they were determined by BIS to no longer fit the criteria of a GAE.

On January 3, 2022, Presidential Proclamations 10327 (87 FR 1) and 10328 (87 FR 11) were published. These Proclamations implemented an understanding reached between the United States and the European Union including the establishment of tariff rate quotas for steel and aluminum articles imported from the European Union member countries. Proclamation 10328 also directed the Secretary of Commerce to seek public comment on the Section 232 exclusions process, including the responsiveness of the exclusions process to market demand and enhanced consultation with U.S. firms and labor organizations.

On February 10, 2022, BIS published the notice, “Request for Public Comments on the Section 232 Exclusions Process” (87 FR 7777) (February 2022 Notice), as directed by Presidential Proclamation 10328. The February 2022 Notice sought public comment on a variety of topics regarding the responsiveness of the exclusions process to market demand and enhanced consultation with U.S. firms and labor organizations. The comment period closed in March 2022 and BIS received nearly 100 comments.

On August 28, 2023, BIS published its proposed rule, “Revisions of the Section 232 Steel and Aluminum Exclusions Process” (88 FR 58525) (August 2023 Proposed Rule). The August 2023 Proposed Rule proposed several revisions to the Section 232 exclusions process, including adjustments to the current criteria for identifying GAEs, the introduction of new General Denied Exclusions (GDEs), and the introduction of new certification requirements for both Requestors and Objectors. This proposed rule was not finalized prior to the issuance of the Inclusion Proclamations.

Pursuant to the Inclusion Proclamations, this IFR makes conforming edits to remove the Section 232 aluminum and steel exclusions process regulatory provisions because that process is no longer in effect as of February 10, 2025, so those regulatory provisions are no longer needed.

As additional conforming changes for the termination of the Section 232 exclusions process, this IFR also removes supplement no. 2 to part 705 (General Approved Exclusions (GAEs) for Steel Articles Under the Section 232 Exclusions Process) and supplement no. 3 (General Approved Exclusions (GAEs) for Aluminum Articles Under the Section 232 Exclusions Process). These two supplements are no longer needed because of the termination of the Section 232 exclusions process.

IV. Regulatory Changes

The following revisions are made to supplement no.1 to part 705:

• An introductory paragraph is created explaining the background and establishment of the Section 232 aluminum and steel derivative inclusion process;

• Paragraph (a) is added to explain the scope of the aluminum and steel derivative process;

• Paragraph (b) is added to provide information on who may submit an inclusion request;

• Paragraph (c) is added to provide the timeframes for submitting inclusion requests. New paragraph (c) provides requestors with information on the submission windows of when to submit their requests;

• Paragraph (d) is added providing requestors information on where to submit inclusion requests, the general requirements for submitting an inclusion request, and the information required in the request;

• Paragraph (e) is added explaining to requestors the review process of received requests and the process for correcting invalid submissions;

• Paragraph (f) is added providing information on where and how to submit public comments;

• Paragraph (g) is added to provide information to requestors and commenters on the review and public comment phase;

• Paragraph (h) is added detailing the procedures BIS takes with determinations made regarding the inclusion requests; and

• Supplements nos. 2 and 3 are removed because they are no longer needed due to the termination of the Section 232 exclusions process.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This IFR has been determined to be a “significant regulatory action,” although not economically significant, under section 3(f)(1) of Executive Order 12866. Pursuant to Proclamations 10895 and 10896 of February 10, 2025, the establishment of procedures for an inclusions process under each Proclamation shall be published in the Federal Register. This IFR is exempt from Executive Order 14192 because it is being issued with respect to a national security function of the United States.

2. The Paperwork Reduction Act of 1995 (44 U.S.C. 3501 et seq.) (PRA) provides that an agency generally cannot conduct or sponsor a collection of information, and no person is required to respond to nor be subject to a penalty for failure to comply with a collection of information, unless that collection has obtained Office of Management and Budget (OMB) approval and displays a currently valid OMB Control Number.

The Department of Commerce requested and OMB authorized emergency processing of one information collection involved in this rule, consistent with 5 CFR 1320.13. Presidential Proclamations 10895 and 10896 also required the Secretary of Commerce to establish within 90 days a process for including additional derivative aluminum and steel articles within the scope of the ad valorem duties proclaimed in Proclamations 9704, 9705, 9980, and clause 4 of the Steel Proclamation and clause 5 of the Aluminum Proclamation, respectively and this interim final rule fulfills that direction. Presidential Proclamations 10895 and 10896 set several requirements for the Department of Commerce to process petitions requesting the inclusion of certain derivative articles of steel and aluminum under the Section 232 Steel and Aluminum Duties established by Presidential Proclamations 9704 and 9705 in March 2018. They state that the process shall provide for including additional derivative articles at the direction of the Secretary unilaterally, or at the request of a producer of steel or aluminum articles or derivative articles within the United States or an industry association representing one or more such producers. Applications for the inclusion of derivative articles must establish that imports of a derivative article have increased in a manner that threatens to impair the national security of the United States or otherwise undermine the objectives set forth in the 2018 Section 232 investigations or any Proclamations issued pursuant thereto. The Inclusions Proclamations direct that the Secretary of Commerce shall issue a determination on any such request within 60 days of its receipt by the Department of Commerce. The immediate implementation of an effective inclusions request process, consistent with the intent of the Inclusion Proclamations, also requires creating a process to allow any individual or organization in the United States to submit derivative inclusion requests and to submit comments in response to such derivative inclusion requests submitted by the public. The Department has determined the following conditions have been met:

a. The collection of information is needed prior to the expiration of time periods normally associated with a routine submission for review under the provisions of the Paperwork Reduction Act in view of the Inclusions Proclamations, https://www.federalregister.gov/documents/2025/02/18/2025-02833/adjusting-imports-of-steel-into-the-united-states, and https://www.federalregister.gov/documents/2025/02/18/2025-02832/adjusting-imports-of-aluminum-into-the-united-states.

b. The collection of information is essential to the mission of the Department, in particular to the adjudication of derivative inclusion requests.

c. The use of normal clearance procedures would prevent the collection of information of derivative inclusions requests, for national security purposes, as discussed under section 232 of the Trade Expansion Act of 1962 as amended and the Inclusions Proclamations.

Agency: Commerce Department.

Type of Information Collection: New Collection.

Title of the Collection: Inclusions to the Section 232 National Security Adjustments to Imports.

Affected Public: Private Sector—Businesses.

Total Estimated Number of Respondents: [100].

Average Responses per Year: [1].

Total Estimated Number of Responses: [100].

Average Time per Response: 8 hours.

Total Annual Time Burden: [800].

Type of Information Collection: [New Collection].

OMB Control Number: [0694-0146].

3. This rule does not contain policies with Federalism implications as that term is defined in Executive Order 13132.

4. The provisions of the Administrative Procedure Act (APA) (5 U.S.C. 553) requiring notice of proposed rulemaking, the opportunity for public comment, and a delay in effective date are inapplicable because this regulation involves a military function of the United States (5 U.S.C. 553(a)(1)) because steel and aluminum, as well as certain steel and aluminum derivatives, are essential products for producing U.S. weapons that are vital for protecting U.S. national security. As explained in the reports submitted by the Secretary to the President, steel and aluminum are being imported into the United States in such quantities or under such circumstances as to threaten to impair the national security of the United States, and therefore the President is implementing these remedial actions (as described in the Inclusions Proclamations) to protect U.S. national security interests by identifying and imposing tariffs on derivative products to protect the U.S. defense industrial base. The U.S. defense industrial base is critical to protecting U.S. national security interests. For example, if there is only one defense contractor in the U.S. that makes a specialized aluminum derivative product used in nuclear submarines, and if there is a surge of imports of these aluminum derivative products or are dumped in the U.S. by an adversary, and if these imports are not subject to the tariffs for aluminum derivatives, these imports of aluminum derivatives may endanger the existence of this U.S. defense contractor. This poses a detriment to U.S. national security by potentially eliminating a supplier of items needed for U.S. defense purposes.

That implementation includes the creation of an effective process by which affected domestic parties can submit inclusion requests based upon imports that “threaten to impair the national security” of the United States. BIS started this process with the publication of the imposition of the tariffs on steel and aluminum to protect critical U.S. national security interests. The tariffs have been implemented to ensure imports of steel and aluminum including certain derivative products do not impair the national security. The immediate implementation of this inclusion process, as directed by the President, is necessary to identify additional derivatives that warrant tariffs to protect U.S. national security interests. Specifically, delaying the adoption of these changes to solicit public comments would further delay the identification and imposition of tariffs on derivative products to protect U.S. national security, and ensure that steel and aluminum producers in the United States are able to supply the current and projected needs of the U.S. military and avoid the risk caused by overreliance on steel and aluminum manufacturers located outside of the United States.

The Department of Commerce also finds that there is good cause to exempt this rule from the APA requirements for public notice and comment under 5 U.S.C. 553(b)(B) and delayed effective date under 5 U.S.C. 553(d)(3) because it would be contrary to the public interest to have a notice and comment period or other delay prior to this action taking effect. Specifically, delaying adoption of this inclusion process would further harm U.S. manufacturers by further delaying their ability to request relief from these imports that are damaging their companies and the U.S. defense industrial base in the process. The U.S. defense industrial base is critical to protecting U.S. national security and implementation of this inclusions process needs to be adopted as soon as possible in order to mitigate any potential national security threat that acts as a detriment to the public interest.

5. Because neither the APA nor any other law requires an opportunity for public comment be given for this rule, the analytical requirements of the Regulatory Flexibility Act (5 U.S.C. 601 et seq.) are not applicable. Accordingly, no Final Regulatory Flexibility Analysis is required and none has been prepared.

List of Subjects in 15 CFR Part 705

Administrative practice and procedure, Business and industry, Classified information, Confidential business information, Imports, Investigations, National security.

For the reasons set forth in the preamble, part 705 of subchapter A of 15 CFR chapter VII is amended as follows:

PART 705—EFFECT OF IMPORTED ARTICLES ON THE NATIONAL SECURITY

1. The authority citation for part 705 continues to read as follows:

Authority: Section 232 of the Trade Expansion Act of 1962, as amended (19 U.S.C. 1862) and Reorg. Plan No. 3 of 1979 (44 FR 69273, December 3, 1979).

2. Supplement no. 1 to part 705 is revised to read as follows:

Supplement No. 1 to Part 705—Requirements for Submissions Requesting Inclusions to the Adjustment of Imports of Aluminum and Steel Imposed Pursuant to Section 232 of the Trade Expansion Act of 1962, as Amended

On March 8, 2018, the President issued Proclamations 9704 and 9705 concurring with the findings of the January 11, 2018 reports of the Secretary of Commerce on the effects of imports of aluminum and steel mill articles (steel articles) on the national security and determining that adjusting aluminum and steel imports through the imposition of duties is necessary so that their imports will no longer threaten to impair the national security. On February 10, 2025, the President issued Proclamations 10895 “Adjusting Imports of Aluminum into The United States” (Aluminum Proclamation), and 10896 “Adjusting Imports of Steel into the United States” (Steel Proclamation), imposing specified rates of duty on imports of aluminum and steel, respectively (collectively, the Inclusions Proclamations). The Inclusions Proclamations also required the Secretary of Commerce to establish within 90 days a process for including additional derivative aluminum and steel articles within the scope of the ad valorem duties proclaimed in Proclamations 9704, 9705, 9980, and clause 4 of the Steel Proclamation and clause 5 of the Aluminum Proclamation, respectively. Presidential Proclamations 10895 and 10896 set several requirements for the Department of Commerce to process petitions requesting the inclusion of certain derivative articles of steel and aluminum under the Section 232 Steel and Aluminum Duties established by Presidential Proclamations 9704 and 9705 in March 2018. They state that the process shall provide for including additional derivative articles at the direction of the Secretary unilaterally, or at the request of a producer of steel or aluminum articles or derivative articles within the United States or an industry association representing one or more such producers. Applications for the inclusion of derivative articles must establish that imports of a derivative article have increased in a manner that threatens to impair the national security of the United States or otherwise undermine the objectives set forth in the 2018 Section 232 investigations or any Proclamations issued pursuant thereto. The Inclusions Proclamations direct that the Secretary of Commerce shall issue a determination on any such request within 60 days of its receipt by the Department.

(a) Scope. This supplement specifies the requirements and process for how directly affected parties located in the United States may submit requests for inclusions to the duties imposed by the President. This supplement also specifies the requirements and process for how parties in the United States may submit inclusion requests (both business confidential and public versions) and public comments in response to submitted inclusion requests for inclusion of aluminum and steel derivative articles in the duties or quantitative limitations imposed by the President (collectively, 232 submissions). This supplement also identifies the time periods for such submissions, the methods of submission, and the information that must be included in such submissions. This supplement also identifies the process for analysis of the submissions and public comments and the action taken upon the final determinations by the Secretary or designee.

(b) Inclusion requests. Who may submit an inclusion request?

(1) Producers of steel or aluminum articles or derivative articles within the United States; or

(2) An industry association representing one or more such producers may submit inclusion requests.

(c) Timeframe of submitting requests. The Bureau of Industry and Security (BIS) will open a submissions window to receive aluminum and steel derivative inclusion requests from industry during two-week submission windows three times annually at the beginning of each May, September, and January, with the first such window to open on May 1, 2025.

(d) Inclusion request requirements. For the request to be considered a valid request, the requestor must adhere to the following general requirements and provide the following:

(1) Submission through Defense Industrial Base Programs inbox at DIBPrograms@bis.doc.gov;

(2) Requests must be submitted in PDF format;

(3) Limited to 30 pages inclusive of all attachments;

(4) Any business confidential submissions must also include a non-confidential public version;

(5) Clear identification of the applicant (i.e., individual, company, or trade association);

(6) A precise definition of the derivative article;

(7) The eight or ten-digit HTSUS designation that serves as the basis for the determination;

(8) An explanation of why the article is a steel or aluminum derivative article; including, to the extent practicable, information on the total value of the article's steel and/or aluminum content as a share of the derivative article's total value;

(9) Pertinent information on the domestic industry affected;

(10) Statistics on imports and domestic production; and

(11) A description of how and to what extent imports of the derivative article threaten to impair the national security or otherwise undermine the objectives set forth in the 2018 Steel and Aluminum Section 232 investigation reports or related Inclusions Proclamations.

(e) BIS review of inclusion petition requests. BIS will review the received requests on a rolling basis during the two-week submission window to validate that the received requests contain all the required elements and do not exceed the page limitation. In the instance where the requestor did not include all the required elements or improperly filed the submission, at the discretion of the Under Secretary for Industry and Security, the requestor will be granted a 48-hour window to resubmit a proper filing.

(f) Where and how to submit public comments. (1) Where to submit? Public comments are to be made via regulations.gov via the regulations.gov ID BIS-2025-0023 at https://www.regulations.gov/docket/BIS-2025-0023. You may submit business confidential and public version public comments, identified by the regulations.gov ID BIS-2025-0023 through the Federal eRulemaking website: https://www.regulations.gov. No other submission methods are being used for submitting public comments for the inclusions process. Follow the instructions for submitting public comments. All filers using the regulations.gov should use the name of the person or entity submitting the comments as the name of their files, in accordance with the instructions below. Anyone submitting business confidential information should clearly identify the business confidential portion at the time of submission, file a statement justifying nondisclosure and referring to the specific legal authority claimed, and provide a non-confidential version of the submission.

(2) Business confidential submissions. For comments submitted electronically containing business confidential information, the file name of the business confidential version should begin with the characters “BC.” Any page containing business confidential information must be clearly marked “BUSINESS CONFIDENTIAL” on the top of that page. The corresponding non-confidential version of the comments must be clearly marked “PUBLIC.” The file name of the non-confidential version should begin with the character “P.” The “BC” and “P” should be followed by the name of the person or entity submitting the comments. Any submissions with file names that do not begin with a “BC” or “P” will be assumed to be public and will be made publicly available through https://www.regulations.gov. Commenters submitting business confidential information are encouraged to scan a hard copy of the non-confidential version to create an image of the file, rather than submitting a digital copy with redactions applied, to avoid inadvertent redaction errors which could enable the public to read business confidential information.

(g) Review and Public Comment Phase. BIS will publicly post non-confidential versions of all valid requests for a 14-day public comment window on https://regulations.gov after the conclusion of the two-week submission window. Members of the public will have the opportunity to comment on the inclusion requests submitted by parties. Collecting public comments ensures a transparent, complete, and legally robust process for conducting analysis and making final determinations of derivative inclusion requests. BIS will review all accepted inclusion requests and public comments.

(h) Decision Phase. The Secretary or designee will sign a positive or negative determination. After the determination, BIS will, for each inclusions request, and, within 60 days of receiving the request, generate and publicly post on regulations.gov a determination memorandum that:

(1) States whether the request was approved or denied, and

(2) Summarizes the rationale for making this determination.

(3) The date of signature on the determination memorandum must be prior to the close of the respective 60-day derivative inclusion processing period, as directed in the Inclusions Proclamations. A Federal Register notice will then be issued that modifies the Annexes to the Inclusions Proclamations with the included derivative products at the eight- to ten-digit HTSUS subheading. Duties on newly included derivative articles will take effect shortly thereafter through consultation with U.S. Customs and Border Protection.

Supplement Nos. 2 and 3 to Part 705 [Removed]

3. Remove Supplement no. 2 and 3 to part 705.

Eric Longnecker,
Deputy Assistant Secretary for Technology Security.

[FR Doc. 2025-07676 Filed 4-30-25; 8:45 am]

BILLING CODE 3510-33-P